DEPARTMENT OF ENERGY

Federal Energy Regulatory Commission

[Docket No. CP19-479-000]

Northern Natural Gas Company; Supplemental Notice of Intent To Prepare an Environmental Assessment for the Proposed Bushton to Clifton A-Line Abandonment Project

On July 15, 2019, the Federal Energy Regulatory Commission (FERC or Commission) issued in Docket No. CP19-479-000 a Notice of Intent to Prepare an Environmental Assessment for the Proposed Bushton to Clifton A-line Abandonment Project (NOI). In its application, Northern Natural Gas Company (Northern) filed a proposal to abandon in-place Northern's A-line facilities consisting of approximately 92.76 miles of 26-inch-diameter pipeline, 15.74 miles of 24-inch-diameter pipeline, and other appurtenant facilities in Clay, Cloud, Ellsworth, Lincoln, Ottowa and Rice Counties, Kansas. The proposed Bushton to Clifton A-line Abandonment Project (Project) also involves construction and operation of compression facilities by Northern in Ottawa County, Kansas. Following Northern's proposed abandonment activities, including the restoration of disturbed land, Northern indicates that the abandoned pipeline will be purchased and removed by a third-party salvage company.

As indicated in the previous NOI, the FERC staff will prepare an environmental assessment (EA) to address the environmental impacts of the Project. The Commission will use the EA in its decision-making process to determine whether to authorize the Project. We prepared this supplemental NOI to notify property owners along the proposed A-line abandonment whose land could be involved in the planned salvage operation who were inadvertently excluded from the July 15, 2019 NOI environmental mailing list. This Supplemental NOI opens a new 30-day scoping period for interested parties to file comments on environmental issues specific to the proposed action. By this notice, the Commission requests public comments on the scope of issues to address in the EA. To ensure that your comments are timely and properly recorded, please submit your comments so that the Commission receives them in Washington, DC on or before 5:00pm Eastern Time on December 6, 2019.

The National Environmental Policy Act (NEPA) requires the Commission to take into account the environmental impacts that could result from its action whenever it considers the issuance of a Certificate of Public Convenience and Necessity. NEPA also requires the Commission to discover concerns the public may have about proposals. This process is referred to as scoping. The main goal of the scoping process is to focus the analysis in the EA on the important environmental issues. You can make a difference by submitting your specific comments or concerns about the Project. Your comments should focus on the potential environmental effects, reasonable alternatives, and measures to avoid or lessen environmental impacts. Your input will help the Commission staff determine what issues they need to evaluate in the EA. Commission staff will consider all filed comments during the preparation of the EA.

This notice is being sent to the Commission's current environmental mailing list for the Project. State and local government representatives should notify their constituents of this proposed Project and encourage them to comment on their areas of concern.

Northern provided landowners with a fact sheet prepared by the FERC entitled “An Interstate Natural Gas Facility On My Land? What Do I Need To Know?” This fact sheet addresses a number of typically asked questions, including how to participate in the Commission's proceedings. It is also available for viewing on the FERC website (www.ferc.gov) at https://www.ferc.gov/resources/guides/gas/gas.pdf.

Public Participation

The Commission offers a free service called eSubscription which makes it easy to stay informed of all issuances and submittals regarding the dockets/projects to which you subscribe. These instant email notifications are the fastest way to receive notification and provide a link to the document files which can reduce the amount of time you spend researching proceedings. To sign up go to www.ferc.gov/docs-filing/esubscription.asp.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to Documents and Filings. Using eComment is an easy method for submitting brief, text-only comments on a project;

(2) You can file your comments electronically by using the eFiling feature, which is located on the Commission's website (www.ferc.gov) under the link to Documents and Filings. With eFiling, you can provide comments in a variety of formats by attaching them as a file with your submission. New eFiling users must first create an account by clicking on “eRegister.” You will be asked to select the type of filing you are making; a comment on a particular project is considered a Comment on a Filing; or

(3) You can file a paper copy of your comments by mailing them to the following address. Be sure to reference the project docket number (CP19-479-000) with your submission: Kimberly D. Bose, Secretary, Federal Energy Regulatory Commission, 888 First Street NE, Room 1A, Washington, DC 20426

Summary of the Proposed Project

Northern is proposing to abandon in-place the A-line facilities consisting of approximately 92.76 miles of 26-inch-diameter pipeline on Northern's M640A and M630A and 15.74 miles of 24-inch-diameter pipeline on its M640J pipeline systems and other appurtenant facilities. The Project would consist of the following pipelines and facilities:

• The M640A and M630A-Lines

The M640 A-line in Kansas consists of abandonment of approximately 45.64 miles of 26-inch-diameter pipeline beginning at Northern's Bushton Compressor Station located in Ellsworth County, Kansas, and ending near the Tescott Compressor Station in Ottawa County, Kansas. The M630 A-line in Kansas consists of abandonment of approximately 47.12 miles of 26-inch-diameter pipeline beginning at the Tescott Compressor Station in, Ottawa County, Kansas, and ending at Northern's Clifton Compressor Station located in Clay County, Kansas.

• The M640 J-Line

The M640 J-line in Kansas consists of abandonment of approximately 15.74 miles of 24-inch-diameter pipeline beginning at Block Valve JBJ04 located in Ellsworth County, Kansas, and ending near Block Valve JXA07 located in Ottawa County, Kansas.

• Tescott Compressor Station

Northern proposes to construct and operate an additional natural gas-driven ISO rated 11,152 horsepower Solar Mars turbine unit (Unit No. 6) at the existing Tescott Compressor Station located in Ottawa County, Kansas. The unit will tie into station piping that is connected to Northern's existing mainlines. Approximately 85 feet of 24-inch-diameter station piping, approximately 40 feet of 36-inch-diameter station piping, and approximately 80 feet of 8-inch-diameter station piping will be removed to accommodate tie-ins.

After abandonment, Northern states that the abandoned pipeline will be purchased and removed by a third-party salvage company. Northern will continue to operate the other pipelines in its right-of-way and maintain its pipeline easements with the exception of a segment of J-line that will be abandoned in place. The general location of the Project facilities is shown in appendix 1.

Land Requirements for Construction

Construction disturbance associated with discrete locations to disconnect the abandoned pipelines and at the proposed compressor station upgrade would disturb about 55.4 acres, including 54.5 acres of land for temporary work space and about 0.9 acre for access roads. Two of the pipeline disconnect locations are located inside existing compressor station facilities which is owned by Northern, and the remaining disconnect locations are located along the A-line which is collocated with other Northern pipelines. No new land would be obtained or required for the Project.

The EA Process

The EA will discuss impacts that could occur as a result of the abandonment, construction, and operation of the proposed Project under these general headings:

• Geology and soils;

• water resources and wetlands;

• vegetation and wildlife;

• threatened and endangered species;

• cultural resources;

• land use;

• air quality and noise;

• public safety; and

• cumulative impacts.

Commission staff will also evaluate reasonable alternatives to the proposed Project or portions of the Project, and make recommendations on how to lessen or avoid impacts on the various resource areas.

The EA will present Commission staffs' independent analysis of the issues. The EA will be available in electronic format in the public record through eLibrary ¹ and the Commission's website (https://www.ferc.gov/industries/gas/enviro/eis.asp). If eSubscribed, you will receive instant email notification when the EA is issued. The EA may be issued for an allotted public comment period. Commission staff will consider all comments on the EA before making recommendations to the Commission.

¹ For instructions on connecting to eLibrary, refer to the last page of this notice.

With this notice, the Commission is asking agencies with jurisdiction by law and/or special expertise with respect to the environmental issues of this project to formally cooperate in the preparation of the EA.² Agencies that would like to request cooperating agency status should follow the instructions for filing comments provided under the Public Participation section of this notice.

² The Council on Environmental Quality regulations addressing cooperating agency responsibilities are at Title 40, Code of Federal Regulations, Part 1501.6.

Consultation Under Section 106 of the National Historic Preservation Act

In accordance with the Advisory Council on Historic Preservation's implementing regulations for section 106 of the National Historic Preservation Act, the Commission is using this notice to initiate consultation with the applicable State Historic Preservation Office, and to solicit their views and those of other government agencies, interested Indian tribes, and the public on the Project's potential effects on historic properties.³ The EA for this project will document findings on the impacts on historic properties and summarize the status of consultations under section 106.

³ The Advisory Council on Historic Preservation's regulations are at Title 36, Code of Federal Regulations, Part 800. Those regulations define historic properties as any prehistoric or historic district, site, building, structure, or object included in or eligible for inclusion in the National Register of Historic Places.

Environmental Mailing List

The environmental mailing list includes federal, state, and local government representatives and agencies; elected officials; environmental and public interest groups; Native American Tribes; other interested parties; and local libraries and newspapers. This list also includes all affected landowners (as defined in the Commission's regulations) who are potential right-of-way grantors along Northern's existing pipeline system, whose property may be used temporarily for project purposes, or who own homes within certain distances of aboveground facilities, and anyone who submits comments on the Project. Commission staff will update the environmental mailing list as the analysis proceeds to ensure that Commission notices related to this environmental review are sent to all individuals, organizations, and government entities interested in and/or potentially affected by the proposed Project. If the Commission issues the EA for an allotted public comment period, a Notice of Availability of the EA will be sent to the environmental mailing list and will provide instructions to access the electronic document on the FERC's website (www.ferc.gov).

Additional Information

Additional information about the Project is available from the Commission's Office of External Affairs, at (866) 208-FERC, or on the FERC website at www.ferc.gov using the eLibrary link. Click on the eLibrary link, click on General Search and enter the docket number in the Docket Number field, excluding the last three digits (i.e., CP19-479-000. Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Dated: November 6, 2019.
Kimberly D. Bose,
Secretary.

[FR Doc. 2019-24629 Filed 11-12-19; 8:45 am]

BILLING CODE 6717-01-P